DEPARTMENT OF ENERGY

Federal Energy Regulatory Commission

[Docket No. EL02-88-002, et al.]

Entergy Services, Inc., et al.; Electric Rate and Corporate Filings

March 6, 2003.

The following filings have been made with the Commission. The filings are listed in ascending order within each docket classification.

1. Entergy Services, Inc.

[Docket Nos. EL02-88-002, ER02-1069-004, ER02-1151-004, ER02-1472-004, and ER02-2243-004]

Take notice that on February 28, 2003, Entergy Services, Inc., on behalf of Entergy Arkansas, Inc., Entergy Gulf States, Inc., Entergy Louisiana, Inc., and Entergy Mississippi, Inc., tendered for filing with the Federal Energy Regulatory Commission (Commission), compliance interconnection and operating agreements with Wrightsville Power Facility, LLC, Plum Point Energy Associates, LLC, Cottonwood Energy Company, LP, Washington Parish Energy Center, LLC, and Reliant Energy Choctaw County, LLC, in response to the Commission's January 28, 2003, and February 26, 2003, order in Wrightsville Power Facility, L.L.C., v. Entergy Arkansas, Inc., et al., 102 FERC ¶ 61,170 and 102 FERC ¶ 61,212.

Comment Date: March 21, 2003.

2. Kinder Morgan Michigan, LLC v. Michigan Electric Transmission Company, LLC

[Docket No. EL03-12-002]

Take notice that on February 28, 2003, Michigan Electric Transmission Company, LLC (METC) submitted for filing with the Federal Energy Regulatory Commission (Commission) a Generator Interconnection & Operating Agreement with Kinder Morgan Michigan, LLC in compliance with the January 29, 2003, Commission Order in Docket Nos. ER02-1330, et al. In addition to submitting the changes directed by the Commission, METC also made ministerial changes to the agreement.

METC states that a copy was served on all parties compiled on the official service list in Docket No. EL03-12, as well as the Michigan Public Service Commission.

Comment Date: March 31, 2003.

3. New England Power Pool

[Docket No. ER03-210-004]

Take notice that on March 3, 2003, the New England Power Pool (NEPOOL) submitted its Report of Compliance in response to the requirements of the Commission's January 31, 2003, Order in New England Power Pool, 102 FERC ¶ 61,107.

NEPOOL states that copies of these materials were sent to the New England state governors and regulatory commissions and the Participants in NEPOOL.

Comment Date: March 24, 2003.

4. New York Independent System Operator, Inc.

[Docket No. ER03-238-002]

Take notice that on February 14, 2003, New York Independent System Operator, Inc., (NYISO) submitted for filing an explanation of the non-applicability of day-ahead margin asurance payments to off-dispatch generators under certain conditions, pursuant to the Commission's January 30, 2003, Order in this proceeding.

Comment Date: March 17, 2003.

5. Washington County Power, LLC

[Docket No. ER03-398-001]

Take notice that on March 4, 2003, Washington County Power, LLC (Washington) tendered for filing an amendment to its market-based rate tariff (MBR Tariff) filed in the above-captioned proceeding. Washington requests that the Federal Energy Regulatory Commission make its MBR Tariff, as amended, effective on March 11, 2003.

Comment Date: March 25, 2003.

6. Klondike Wind Power LLC

[Docket No. ER03-416-003]

Take notice that on March 3, 2003, Klondike Wind Power LLC amended its January 15, 2003, name change filing with the Federal Energy Regulatory Commission (Commission), which informed the Commission that on December 19, 2002, the name of “West Valley Generation LLC” had been changed to “Klondike Wind Power LLC” in accordance with 18 CFR 35.16. The amendment reflects the addition of a notice of succession filed under 18 CFR 131.51.

Comment Date: March 24, 2003.

7. PPM Energy, Inc.

[Docket No. ER03-478-001]

Take notice that on March 3, 2003, PPM Energy, Inc. amended its January 30, 2003, name change filing with the Federal Energy Regulatory Commission (Commission), which informed the Commission that on January 15, 2003, the name of “PacifiCorp Power Marketing, Inc.” had been changed to “PPM Energy, Inc.” in accordance with 18 CFR 35.16. The amendment reflects the addition of a Notice of Succession filed under 18 CFR 131.51.

Comment Date: March 24, 2003.

8. New England Power Pool

[Docket No. ER03-586-000]

Take notice that on February 28, 2003, Northeast Utilities Service Company (NUSCO), on behalf of its operating company affiliates, The Connecticut Light and Power Company, Western Massachusetts Electric Company, Holyoke Power and Electric Company and Holyoke Water Power Company (the NU Companies) submitted for filing an amendment (Amendment) to the Settlement Agreement approved by the Commission in Northeast Utilities Service Company, 88 FERC ¶ 61,006 (the Settlement) to extend the rates, terms and conditions of the Settlement for a period of 90 days.

NUSCO states that a copy of this filing has been mailed to the service list.

Comment Date: March 11, 2003.

9. California Independent System Operator Corporation

[Docket No. ER03-588-000]

Take notice that on March 4, 2003, the California Independent System Operator Corporation (ISO) submitted for Commission filing and acceptance the Utility Distribution Company Operating Agreement (UDC Operating Agreement) between the ISO and the City of Hercules, California. The ISO requests that the UDC Operating Agreement be made effective as of March 1, 2003. The ISO requests privileged treatment, pursuant to 18 CFR 388.112, with regard to portions of the filing.

The ISO states that it has served copies of this filing upon the City of Hercules, California and the California Public Utilities Commission.

Comment Date: March 25, 2003.

10. New England Power Pool

[Docket No. ER03-590-000]

Take notice that on March 4, 2003, the New England Power Pool (NEPOOL) submitted the Ninety-Fourth Agreement Amending New England Power Pool Agreement, which modifies and clarifies Attachments L, M, N, and O, of the Restated NEPOOL Open Access Transmission Tariff (the NEPOOL Tariff), the Financial Assurance Policy for NEPOOL Members, the Financial Assurance Policy for NEPOOL Non-Participant Transmission Customers, the NEPOOL Billing Policy, and the Financial Assurance Policy for Non-Participants that transact in the Financial Transmission Rights (FTR) Auction and/or Secondary FTR Market, respectively, (collectively, the Policies). NEPOOL states that the changes to the Policies: (i) Reflect NEPOOL's experience with the Policies that were implemented in 2002; (ii) account for certain other financial assurance issues that have arisen since the implementation of the revised Policies; and (iii) make changes to the Policies in connection with the upcoming implementation of Standard Market Design in New England. A May 1, 2003, effective date is requested for these changes.

NEPOOL states that copies of these materials were sent to the NEPOOL Participants, Non-Participant Transmission Customers and the New England state governors and regulatory commissions.

Comment Date: March 25, 2003.

11. PJM Interconnection, L.L.C.

[Docket No. ES03-26-000]

Take notice that on February 28, 2003, PJM Interconnection, L.L.C. (PJM) submitted an application pursuant to section 204 of the Federal Power Act seeking authorization to issue a long-term, secured note in the amount of $110 million.

PJM also requests a waiver from the Commission's competitive bidding and negotiated placement requirements at 18 CFR 34.2.

Comment Date: March 27, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-6002 Filed 3-12-03; 8:45 am]

BILLING CODE 6717-01-P